Title 3—

The President

Proclamation 8401 of August 21, 2009

Fiftieth Anniversary of Hawaii Statehood

By the President of the United States of America

A Proclamation

It is with great pride that our Nation commemorates the fiftieth anniversary of Statehood for Hawaii. On August 21, 1959, we welcomed Hawaii into the United States ohana, or family. Unified under the rule of King Kamehameha the Great, it was Queen Lili‘uokalani who witnessed the transition to a Provisional Government controlled by the United States. As a Nation, we honor the extensive and rich contributions of Native Hawaiian culture to our national character.

Borne out of volcanic activity in the Pacific Ocean, a chain of islands emerged that would bear witness to some of the most extraordinary events in world history. From Pu‘ukohola Heiau and the royal residence at the ‘Iolani Palace, to the USS ARIZONA Memorial and luaus that pay tribute to Hawaiian traditions, Americans honor the islands’ collective legacy and admire their natural beauty. Home to unique and endangered species, active volcanoes, and abundant reefs, the Hawaiian islands actively conserve their distinctive ecosystems with responsible development and a deep-rooted appreciation for the land and surrounding ocean.

The Aloha Spirit of Hawaii offers hope and opportunity for all Americans. Growing up in Hawaii, I learned from its diversity how different cultures blend together into one population—proud of their personal heritage and made stronger by their shared sense of community. Our youngest State, Hawaii faces many of the same challenges other States face throughout our country, and it represents the opportunity we all have to grow and learn from each other.

NOW, THEREFORE, I, BARACK OBAMA, President of the United States of America, by the virtue of the authority vested in me by the Constitution and laws of the United States, do hereby proclaim August 21, 2009, as the Fiftieth Anniversary of Hawaii Statehood. I call upon the people of the United States to observe this day with appropriate programs, ceremonies, and activities.

IN WITNESS WHEREOF, I have hereunto set my hand this twenty-first day of August, in the year of our Lord two thousand nine, and of the Independence of the United States of America the two hundred and thirty-fourth.

[FR Doc. E9-20694

Filed 8-25-09; 8:45 am]

Billing code 3195-W9-P